DEPARTMENT OF DEFENSE

Department of the Air Force

Record of Decision for F35A Training Basing Final Environmental Impact Statement

ACTION: Notice of Availability (NOA) of a Record of Decision (ROD).

SUMMARY: On August 1, 2012, the United States Air Force signed the ROD for the F35A Training Basing Final Environmental Impact Statement (FEIS). The ROD states the Air Force decision to implement the Preffered Alternative to beddown 72 F35A Primary aircraft authorized (PAA) training aircraft at Luke Air Force Base, Arizona.

The decision was based on matters discussed in the FEIS, inputs from the public and regulatory agencies, and other relevant factors. The FEIS was made available to the public on June 15, 2012 through a NOA in the Federal Register (Volume 77, Number 116, Page 35961) with a wait period that ended on July 15 2012. The ROD documents only the decision of the Air Force with respect to the proposed Air Force actions analyzed in the FEIS. Authority: This NOA is published pursuant to the regulations (40 CFR Part 1506.6) implementing the provisions of the NEPA of 1969 (42 USC. 4321, et seq.) and the Air Force's Environmental Impact Analysis Process (EIAP) (32 CFR Parts 989.21(b) and 989.24(b)(7)).

FOR FURTHER INFORMATION CONTACT: Ms. Kim Fornof, 266 F Street West, Building 901, Randolph AFB, 78150-4319, (210) 652-1961, aetc.a7cp.inbox@us.af.mil.

Henry Williams Jr.,
Acting Air Force Federal Register Liaison Officer.

[FR Doc. 2012-19674 Filed 8-9-12; 8:45 am]

BILLING CODE P